DEPARTMENT OF TRANSPORTATION

Federal Aviation Administration

14 CFR Part 39

[Docket No. FAA-2006-24785; Directorate Identifier 2006-NE-20-AD]

RIN 2120-AA64

Airworthiness Directives; Lycoming Engines (L)O-360, (L)IO-360, AEIO-360, O-540, IO-540, AEIO-540, (L)TIO-540, IO-580, and IO-720 Series Reciprocating Engines

AGENCY: Federal Aviation Administration (FAA), DOT.

ACTION: Notice of proposed rulemaking (NPRM).

SUMMARY: We propose to supersede an existing airworthiness directive (AD) that applies to the products listed above. The existing AD currently requires replacing certain crankshafts. Since we issued that AD, Lycoming Engines discovered that the start date of affected engine models in Mandatory Service Bulletin (MSB) No. 569A, is incorrect. This proposed AD would correct that start date. We are proposing this AD to prevent failure of the crankshaft, which will result in total engine power loss, in-flight engine failure, and possible loss of the aircraft.

DATES: We must receive comments on this proposed AD by September 26, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this AD, contact Lycoming, 652 Oliver Street, Williamsport, PA 17701; telephone (570) 323-6181; fax (570) 327-7101, or on the Internet at http://www.Lycoming.Textron.com. You may review copies of the referenced service information at the FAA, Engine & Propeller Directorate, 12 New England Executive Park, Burlington, MA. For information on the availability of this material at the FAA, call 781-238-7125.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Norm Perenson, Aerospace Engineer, New York Aircraft Certification Office, FAA, Engine & Propeller Directorate, 1600 Stewart Avenue, Suite 410, Westbury, NY 11590; phone: 516-228-7337; fax: 516-794-5531; e-mail: norman.perenson@faa.gov.

SUPPLEMENTARY INFORMATION:

Comments Invited

We invite you to send any written relevant data, views, or arguments about this proposed AD. Send your comments to an address listed under the ADDRESSES section. Include “Docket No. FAA-2006-24785; Directorate Identifier 2006-NE-20-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On September 20, 2006, we issued AD 2006-20-09, Amendment 39-14778 (71 FR 57407, September 29, 2006), for Lycoming Engines (L)O-360, (L)IO-360, AEIO-360, O-540, IO-540, AEIO-540, (L)TIO-540, IO-580, and IO-720 series reciprocating engines. That AD requires replacing certain crankshafts. That AD resulted from reports of 23 confirmed failures of similar crankshafts in Lycoming Engines 360 and 540 series reciprocating engines. We issued that AD to prevent failure of the crankshaft, which will result in total engine power loss, in-flight engine failure, and possible loss of the aircraft.

Actions Since Existing AD was Issued

Since we issued AD 2006-20-09, Lycoming Engines discovered that the March 1, 1997 start date of affected engine models in Mandatory Service Bulletin (MSB) No. 569A, is incorrect.

Relevant Service Information

We reviewed Lycoming Engines MSB No. 569A, dated April 11, 2006. That MSB describes procedures for replacing crankshafts listed by serial number in that MSB. We also reviewed Lycoming Engines Supplement No. 1 to MSB 569A, dated May 27, 2009. The supplement corrects the start date of affected engine models, to January 1, 1997.

FAA's Determination

We are proposing this AD because we evaluated all the relevant information and determined the unsafe condition described previously is likely to exist or develop in other products of these same type designs.

Proposed AD Requirements

This proposed AD would retain all of the requirements of AD 2006-20-09. This proposed AD would change the start date of affected engine models, from March 1, 1997, to January 1, 1997.

Costs of Compliance

We estimate that this proposed AD would require no additional costs of compliance over those in the original AD, AD 2006-20-09, which are $60,384,000. This proposed AD carries over the original costs of compliance. We estimate that this proposed AD would affect 3,774 engines installed on airplanes of U.S. registry. Because the proposed AD compliance interval coincides with engine overhaul or other engine maintenance, we estimate no additional labor hours will be needed to comply with this proposed AD. Parts would cost about $16,000 per engine. Based on these figures, we estimate the total cost of the proposed AD to be $60,384,000. Our estimate is independent of any possible warranty coverage.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2006-20-09, Amendment 39-14778 (71 FR 57407, September 29, 2006), and adding the following new AD:

Lycoming Engines (formerly Textron Lycoming): Docket No. FAA-2006-24785; Directorate Identifier 2006-NE-20-AD.

Comments Due Date

(a) The FAA must receive comments on this AD action by September 26, 2011.

Affected ADs

(b) This AD supersedes AD 2006-20-09, Amendment 39-14778.

Applicability

(c) This AD applies to those Lycoming Engines (L)O-360, (L)IO-360, AEIO-360, O-540, IO-540, AEIO-540, (L)TIO-540, IO-580, and IO-720 series reciprocating engines listed by engine model number and serial number in Table 1, Table 2, Table 3, or Table 4 of Lycoming Mandatory Service Bulletin (MSB) 569A, dated April 11, 2006, and those engines with crankshafts listed by crankshaft serial number in Table 5 of Lycoming MSB 569A, dated April 11, 2006. These applicable engines are manufactured new or rebuilt, overhauled, or had a crankshaft installed after January 1, 1997. These engines are installed on, but not limited to, the following aircraft:

Engine model | Manufacturer | Aircraft model
AEIO-360-A1B6 | Moravan | Z242L Zlin
| Scottish Avia | Bulldog
| Valmet | Leko 70
AEIO-360-A1E6 | Integrated Systems | Omega
IO-360-A1B6 | Aircraft Manufacturing Factory | Mushshak
| Beech | C-24R Sierra or 200 Sierra
| Cessna | R-G Cardinal
| Korean Air | Chang Gong-91
| Partenavia | P-68C
| Saab | MFI-15 Safari, MFI-17 Supporter
| Scottish Avia | Bulldog
IO-360-A1B6D | Cessna | R-6 Cardinal
| Siai Marchetti | S-205
IO-360-A3B6 | Mod Works | Trophy 212 Conversion
IO-360-A3B6D | Mooney | M20J-201
IO-360-B1G6 | American | Blimp Spector 42
IO-360-C1C6 | Piper Aircraft | PA-28-200R Arrow IV
| Ruschmeyer | MF-85
IO-360-C1D6 | M.B.B. | Flamingo 223
| Rockwell | 112
IO-360-C1E6 | Piper | PA-34-200 Seneca I
IO-360-C1G6 | Zeppelin | NT
IO-360-X178 | Ly-Con | STC
(L)O-360-A1G6D | Beech | 76 Duchess
(L)O-360-A1H6 | Piper | PA-44 Seminole
O-360-A1F6 | Cessna | 177 Cardinal
O-360-A1F6D | Cessna | 177 Cardinal
| Teal III | TSC 1A3
O-360-A1G6D | Beech | 76 Duchess
O-360-A1H6 | Piper | PA-44 Seminole
O-360-E1A6D | Piper | PA-44-180 Seminole
O-360-F1A6 | Cessna | C-172RG Cutlass RG
AEIO-540-D4A5 | Christen | Pitts S-2S, S-2B
| H.A.L. | HPT-32
| Siai-Marchetti | SF-260
| Slingsby | T3A Firefly
AEIO-540-L1B5 | Extra-Flugzeugbau | Extra 300
| F.F.A. | FFA-2000 Eurotrainer
AEIO-540-L1D5 | Apex | Apex
IO-540-AA1A5 | Piper | 602P Sequoia
IO-540-AB1A5 | Cessna | C-182 Skylane
IO-540-AC1A5 | Cessna | C-206 Stationair
IO-540-AE1A5 | Robinson | R44
IO-540-C4B5 | Aerofab | 250 Renegade
| Avions Pierre Robin | HR100/250
| Bellanca | T-250 Aries
| Piper | Aztec C PA-23 “250”, Aztec F
| Wassmer | WA4-21
IO-540-C4D5 | S.O.C.A.T.A. | TB-20
IO-540-C4D5D | S.O.C.A.T.A. | TB-20 Trinidad
IO-540-D4A5 | Piper | PA-24 260 Comanche
| Siai-Marchetti | SF-260
IO-540-D4B5 | Cerva | CF-34 Guepard
IO-540-E1A5 | Aero Commander | 500-E
IO-540-E1B5 | Aero Commander | 500-U
| Poeschel | P-300
| Shrike | 500-S
IO-540-J4A5 | Piper | Aztec PA-23 “250”
IO-540-K1A5 | Aeronautica Agricula Mexicana | Quail
| Celair | Eagle
| Embraer | EMB-720 Minuano, EMB-721 Sertanejo
| Piper | PA-32-300 Cherokee Six
IO-540-K1A5D | Piper | PA-32-300
IO-540-K1B5 | Evangel-Air | Evangel-Air
| Pilotus Britton-Norman | BN-2B Islander
| Transavara | T-300 Skyfarmer
IO-540-K1E5 | Bellanca | Bellanca
IO-540-K1F5 | Ted Smith | Aerostar 600
IO-540-K1G5 | Embraer | EMB-720 Minuano
| Piper | Saratoga PA-32-300, Brave 300
IO-540-K1G5D | Embraer | EMB-721 Sertanejo
| Piper | PA-32-300R Lance, SP PA-32-300R Saratoga
IO-540-K1H5 | Seawind | Seawind
IO-540-K1J5 | Piper | 600A Aerostar
IO-540-K1J5D | Embraer | EMB-201 Ipanema
IO-540-K1K5 | Piper | T35
IO-540-L1C5 | Swearingen | SX300
IO-540-M1A5 | Piper | PA-31-300 Navajo
IO-540-M1C5 | King Engineering | Angel
IO-540-S1A5 | Piper | 601B Aerostar, 601P Aerostar
IO-540-T4A5D | General Aviation | Model 114
IO-540-T4B5 | Commander | 114B
IO-540-T4B5D | Rockwell | 114
IO-540-V4A5 | Aircraft Manufacturing Factory | Aircraft Manufacturing Factory
| Maule | MT-7-260, M-7-260
IO-540-W1A5 | Maule | MX-7-235, MT-7-235, M7-235
IO-540-X160 | Airship Management | Airship Management
IO-540-X170 | Robinson | Robinson
O-540-A1A5 | Helio | Military H-250
O-540-A1B5 | Piper | PA-32 “250” Aztec, PA-24 “250” Comanche
O-540-A1C5 | Piper | PA-24 “250” Comanche
O-540-A1D5 | Piper | PA-24 “250” Comanche
O-540-A4D5 | American Champion | American Champion
| Gomozig | Gomozig
| Avipro | Bearhawk
O-540-B1A5 | Piper | PA-23 “235” Apache
O-540-B2B5 | S.O.C.A.T.A. | 235CA Rallye.
O-540-B2C5 | Piper | PA-24 “235” Pawnee
O-540-B4B5 | Embraer | EMB-710 Corioca
| Maule | MX-7-235 Star Rocket, M-6-235 Super Rocket, M-7-235 Super Rocket
| Piper | PA-28 “235” Cherokee
| S.O.C.A.T.A. | 235GT Rallye, 235C Rallye
O-540-E4A5 | Aviamilano | F-250 Flamingo
| Piper | PA-24 “260” Comanche
| Siai-Marchetti | SF-260, SF-208
O-540-E4B5 | Britton-Norman | BN-2
| Piper | PA-32 “260” Cherokee Six
O-540-E4C5 | Pilotus Britton-Norman | BN-2A-26 Islander; BN-2A-27 Islander; BN-2B-26 Islander II; BN-2A-21 Islander; BN-2A-Mark III-2 Trislander
O-540-F1B5 | Robinson | R-44
O-540-G1A5 | Piper | PA-25 “260” Pawnee
O-540-J1A5D | Maule | MX-7-235 Star Rocket, M-6-235 Super Rocket, M-7-235 Super Rocket
O-540-J3A5 | Robin | R-3000/235
O-540-J3A5D | Piper | PA-28-236 Dakota
O-540-J3C5D | Cessna | R-182 Skylane
O-540-L3C5D | Cessna | TR-182 Turbo Skylane
TIO-540-AA1AD | Aerofab Inc | 270 Turbo Renegade
TIO-540-AB1AD | S.O.C.A.T.A. | TC TB-21 Trinidad
TIO-540-AE2A | Piper | PA-46-350P Mirage
TIO-540-AF1B | Mooney | TLS M20M
TIO-540-AG1A | Commander Aircraft | 112TC
TIO-540-AH1A | Piper | TC PA-32-301T TurboSaratoga
TIO-540-AK1A | Cessna | T182T Turbo Skylane
TIO-540-C1A | Piper | PA-23-250 Turbo Aztec
TIO-540-J2B | Piper | T-1020
TIO-540-U2A | Piper | 700P Aerostar
TIO-540-W2A | Aero Mercantil | Gavilan
TIO-540-X136 | Schweizer | Schweizer
TIO-540-X155 | Cessna | T182 (AK1A)
IO-720-D1B | Embraer | EMB-400 Ipanema, IAR-821
| Nauchang | N5
IO-720-D1C | Piper | PA-36-375 Brave

Unsafe Condition

(d) This AD results from Lycoming Engines discovering that the March 1, 1997 start date of affected engine models in Mandatory Service Bulletin (MSB) No. 569A, is incorrect. Lycoming Engines issued Supplement 1 to MSB No. 569A, dated May 27, 2009, which corrected the date of affected engine models, to January 1, 1997. We are issuing this AD to prevent failure of the crankshaft, which will result in total engine power loss, in-flight engine failure, and possible loss of the aircraft.

Compliance

(e) You are responsible for having the actions required by this AD performed within the compliance times specified unless the actions have already been done.

Engines for Which No Action Is Required

(f) If your engine meets any of the following conditions, and you have not had the crankshaft replaced since meeting the condition, no further action is required:

(1) Engines that are in compliance with Lycoming MSB No. 552 (AD 2002-19-03) or MSB No. 553 (AD 2002-19-03 Table 3 or Table 5); or

(2) Engines that are in compliance with Lycoming MSB No. 566 AD (2005-19-11); or

(3) Engines that are in compliance with Lycoming Supplement No. 1 to MSB No. 566 (AD 2006-06-16); or

(4) Engines that are in compliance with the original issue of Lycoming MSB No. 569, MSB No. 569A, and Supplement 1 to MSB No. 569A.

(5) For engines identified in paragraphs (f), (g), (h), or (i) of this AD, owners or operators may make an entry in the AD status log required by 14 CFR 91.417(a)(2)(v) that this AD required no action for compliance.

(g) If Lycoming Engines manufactured new, rebuilt, overhauled, or repaired your engine, or replaced the crankshaft in your engine before January 1, 1997, and you have not had the crankshaft replaced, no further action is required.

(h) If Table 1, Table 2, Table 3, or Table 4 of Lycoming MSB No. 569A, dated April 11, 2006, lists your engine serial number (S/N), and Table 5 of MSB No. 569A, dated April 11, 2006, does not list your crankshaft S/N, no further action is required.

(i) For engine model TIO-540-U2A, S/N L-4641-61A, no action is required.

Engines for Which Action Is Required

(j) If Table 1, Table 2, Table 3, or Table 4 of Lycoming MSB No. 569A, dated April 11, 2006, lists your engine S/N, and Table 5 of MSB No. 569A, dated April 11, 2006, lists your crankshaft S/N, replace the affected crankshaft with a crankshaft that is not listed in Table 5 of MSB No. 569A at the earliest of the following:

(1) The time of the next engine overhaul as specified in Lycoming Engines Service Instruction No. 1009AS, dated May 25, 2006; or

(2) The next separation of the crankcase, or

(3) No later than 12 years from the time the crankshaft first entered service or was last overhauled, whichever is later.

(k) If Table 1, Table 2, Table 3, or Table 4 of Lycoming MSB No. 569A, dated April 11, 2006, does not list your engine S/N, and Table 5 of MSB No. 569A does list your crankshaft S/N (an affected crankshaft was installed as a replacement), replace the affected crankshaft with a crankshaft that is not listed in Table 5 of MSB No. 569A at the earliest of the following:

(1) The time of the next engine overhaul as specified in Lycoming Engines Service Instruction No. 1009AS, dated May 25, 2006; or

(2) The next separation of the crankcase, or

(3) No later than 12 years from the time the crankshaft first entered service or was last overhauled, whichever is later.

Prohibition Against Installing Certain Crankshafts

(l) After the effective date of this AD, do not install any crankshaft that has a S/N listed in Table 5 of Lycoming MSB No. 569A, dated April 11, 2006, into any engine.

Alternative Methods of Compliance (AMOC)

(m) The Manager, New York Aircraft Certification Office, has the authority to approve AMOCs for this AD if requested using the procedures found in 14 CFR 39.19. AMOCs approved for AD 2006-20-09 are approved as AMOCs for this AD.

Related Information

(n) For more information about this AD, contact Norm Perenson, Aerospace Engineer, New York Aircraft Certification Office, FAA, Engine & Propeller Directorate, 1600 Stewart Avenue, Suite 410, Westbury, NY 11590; phone: 516-228-7337; fax: 516-794-5531; e-mail: norman.perenson@faa.gov.

(o) For service information identified in this AD, contact Lycoming, 652 Oliver Street, Williamsport, PA 17701; telephone (570) 323-6181; fax (570) 327-7101, or on the Internet at http://www.Lycoming.Textron.com. You may review copies of the referenced service information at the FAA, Engine & Propeller Directorate, 12 New England Executive Park, Burlington, MA. For information on the availability of this material at the FAA, call 781-238-7125.

Issued in Burlington, Massachusetts on August 5, 2011.
Peter A. White,
Acting Manager, Engine & Propeller Directorate, Aircraft Certification Service.

[FR Doc. 2011-20519 Filed 8-11-11; 8:45 am]

BILLING CODE 4910-13-P